INTERNATIONAL TRADE COMMISSION

[Investigation Nos. 731-TA-1435, 1436 and 1438-1440 (Review)]

Acetone From Belgium, Singapore, South Africa, South Korea, and Spain; Notice of Commission Determination To Conduct Full Five-Year Reviews

AGENCY: United States International Trade Commission.

ACTION: Notice.

SUMMARY: The Commission hereby gives notice that it will proceed with full reviews pursuant to the Tariff Act of 1930 to determine whether revocation of the antidumping duty orders on acetone from Belgium, Singapore, South Africa, South Korea, and Spain would be likely to lead to continuation or recurrence of material injury within a reasonably foreseeable time. A schedule for the reviews will be established and announced at a later date.

DATES: February 4, 2025.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

For further information concerning the conduct of these reviews and rules of general application, consult the Commission's Rules of Practice and Procedure, part 201, subparts A through E (19 CFR part 201), and part 207, subparts A, D, E, and F (19 CFR part 207).

SUPPLEMENTARY INFORMATION: On February 4, 2025, the Commission determined that it should proceed to full reviews in the subject five-year reviews pursuant to section 751(c) of the Tariff Act of 1930 (19 U.S.C. 1675(c)).¹ The Commission found that the domestic interested party group response to its notice of institution (89 FR 87399, November 1, 2024) was adequate and that the respondent interested party group responses with respect to South Africa and Spain were adequate, and decided to conduct full reviews of the antidumping duty orders on acetone from South Africa and Spain. The Commission also found that the respondent interested party group responses with respect to Belgium, South Korea, and Singapore were inadequate but determined to conduct full reviews of the orders on acetone from those countries in order to promote administrative efficiency in light of its decision to conduct full reviews of the orders with respect to South Africa and Spain. A record of the Commissioners' votes will be available from the Office of the Secretary and at the Commission's website.

¹ Commissioner David S. Johanson did not participate.

Authority: These reviews are being conducted under authority of title VII of the Tariff Act of 1930; this notice is published pursuant to § 207.62 of the Commission's rules.

By order of the Commission.
Issued: February 7, 2025.
Lisa Barton,
Secretary to the Commission.

[FR Doc. 2025-02573 Filed 2-12-25; 8:45 am]

BILLING CODE 7020-02-P